ENVIRONMENTAL PROTECTION AGENCY

[OAR-2003-0017; FRL-7918-2]

Agency Information Collection Activities; Submission to OMB for Review and Approval; Comment Request; Protection of Stratospheric Ozone: Request for Applications for Critical Use Exemption From the Phaseout of Methyl Bromide (Renewal), EPA ICR Number 2031.02, OMB Control Number 2060-0482

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on May 31, 2005. Under OMB regulations, the Agency may continue to conduct or sponsor the collection of information while this submission is pending at OMB. This ICR describes the nature of the information collection and its estimated burden and cost.

DATES: Additional comments may be submitted on or before June 27, 2005.

ADDRESSES: Submit your comments, referencing docket ID number OAR-2003-0017 (our preferred method), by email to a-and-r-Docket@epa.gov, or by mail to: Environmental Protection Agency, EPA Docket Center (EPA/DC), Air and Radiation Docket and Information Center, MC 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Marta Montoro, Office of Air and Radiation, Stratospheric Protection Division (6205J), Environmental Protection Agency, 1200 Pennsylvania Avenue, NW., Washington, DC 20460; telephone number: (202) 343-9321; fax number: (202) 343-2338; email address: montoro.marta@epa.gov.

SUPPLEMENTARY INFORMATION: EPA has submitted the following ICR to OMB for review and approval according to the procedures prescribed in 5 CFR 1320.12. On February 11, 2005, (70 FR 7254), EPA sought comments on this ICR pursuant to 5 CFR 1320.8(d). EPA received one comment and has addressed it below.

EPA has established a public docket for this ICR under Docket ID No. OAR-2003-0017, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Protection of Stratospheric Ozone: Request for Applications for Critical Use Exemption from the Phaseout of Methyl Bromide (Renewal).

Abstract: With this Information Collection Request (ICR), EPA's Office of Air and Radiation (OAR) and Office of Pollution Prevention and Toxic Substances (OPPTS), are continuing the existing request for critical use exemption applications for methyl bromide, under the Clean Air Act (CAA) and in accordance with U.S. obligations under the Montreal Protocol on Substances that Deplete the Ozone Layer (Protocol). This information is collected so that the U.S. government can submit a technically valid and robust methyl bromide critical use exemption Nomination to the Ozone Secretariat of the United Nations Environment Programme on an annual basis. Since 2002, this information has primarily been collected through agricultural consortia, and also through individuals who have submitted applications to EPA. If an applicant indicates that the application contains Confidential Business Information (CBI), that information will be treated as such by EPA. Responses to the collection of information are required for users to obtain a critical use exemption benefit. EPA may consider a different format for the application in conjunction with this Information Collection Request Renewal, in order to reduce Agency burden during the compilation of the annual Nomination.

EPA received one comment on the Notice published on February 11, 2005 (70 FR 7254) requesting the Agency to not exempt any methyl bromide for critical uses and opposing use of methyl bromide. The CAA allows the Agency to create an exemption for critical uses to the extent consistent with the Protocol. The Protocol authorizes exemptions to the extent decided by the Parties.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 50 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 100.

Estimated Number of Respondents: 100.

Frequency of Response: Annually.

Estimated Total Annual Hour Burden: 5,000.

Estimated Total Annual Cost: $199,300, which includes $0 annualized capital/startup costs, $0 annual O&M costs, and $199,300 annual labor costs.

Changes in the Estimates: There is a decrease of 92,605 hours in the total estimated burden currently identified in the OMB Inventory of Approved ICR Burdens. This decrease is due to adjustments to the estimates based on changed labor rates and the change in the number of respondents over the last three years.

Dated: May 18, 2005.
Oscar Morales,
Director, Collection Strategies Division.

[FR Doc. 05-10477 Filed 5-25-05; 8:45 am]

BILLING CODE 6560-50-P